DEPARTMENT OF THE INTERIOR

Fish and Wildlife Service

[FWS-R4-ES-2018-N143; FXES11140400000-178-FF04EF2000]

Renewal of Incidental Take Permit for Sand Skink and Blue-Tailed Mole Skink, Osceola County, FL

AGENCY: Fish and Wildlife Service, Interior.

ACTION: Notice of availability; request for comments and information.

SUMMARY: We, the Fish and Wildlife Service, announce receipt of an application for the renewal of an existing incidental take permit (ITP). The applicants are requesting a 5-year renewal of their existing 2-year ITP under the Endangered Species Act. The existing ITP expired on June 6, 2018. If granted, the renewed ITP would extend authorization for take of the federally threatened sand skink and blue-tailed mole skink (skinks) incidental to the construction of a single-family residential development located in Osceola County, Florida. The co-applicants are JKAF Investments, LLC, and Kathryn Kendrick Davidow Trust. We request public comments on the permit application, the habitat conservation plan (HCP), and our preliminary determination that this HCP qualifies as low effect under the National Environmental Policy Act (NEPA). To make this determination, we used our environmental action statement and low-effect screening form, which is also available for review.

DATES: We must receive your written comments on or before March 15, 2019.

ADDRESSES:

Obtaining Documents: You may obtain copies of the documents by any of the following methods:

• Telephone: Alfredo Begazo, 772-469-4234 (telephone).

• Email: alfredo_begazo@fws.gov.

• U.S. mail: Alfredo Begazo, South Florida Ecological Services Office; Attn: JKAF Investments, LLC, and Kathryn Kendrick Davidow Trust Permit TE 8166B-1, U.S. Fish and Wildlife Service, 1339 20th Street, Vero Beach, FL 32960-3559.

• In-person review: The documents are available for public inspection by appointment during normal business hours at the above address. Please call to make an appointment.

• Fax: Alfredo Begazo, 772-562-4288.

Submitting Comments: If you wish to comment on any of the documents, you may do so by submitting your comment in writing to the email address, U.S. mail address (mail or hand-carrying), or fax number above. Please also see Public Availability of Comments in SUPPLEMENTARY INFORMATION.

FOR FURTHER INFORMATION CONTACT: Mr. Alfredo Begazo, Fish and Wildlife Biologist, South Florida Ecological Services Office (see ADDRESSES), 772-469-4234 (telephone).

SUPPLEMENTARY INFORMATION: We, the Fish and Wildlife Service (Service), announce receipt of an application for the renewal of an existing ITP under the Endangered Species Act of 1973, as amended (ESA; 16 U.S.C. 1531 et seq.). The co-applicants are JKAF Investments, LLC, and Kathryn Kendrick Davidow Trust, and they seek a 5-year renewal of an ITP that expired on June 29, 2018. Renewal would give them the authority to take the federally listed sand skink (Neoseps reynoldsi) and threatened blue-tailed mole skink (Eumeces egregious) (hereafter, skinks) in Osceola County, Florida. We request public comment on this permit renewal application and habitat conservation plan (HCP), and on our preliminary determination that this HCP qualifies as categorical exclusion under the National Environmental Act (NEPA; 42 U.S.C. 4321 et seq.). To make this determination, we used our environmental action statement and low-effect screening form, which are also available for review.

Public Availability of Comments

Before including your address, phone number, email address, or other personal identifying information in your comment, you should be aware that your entire comment—including your personal identifying information—may be made publicly available at any time. While you may ask us in your comment to withhold your personal identifying information from public review, we cannot guarantee that we will be able to do so.

Applicants' Proposed Project

JKAF Investments, LLC, and Kathryn Kendrick Davidow Trust request a renewal of an expired permit under section 10(a)(1)(B) of the Endangered Species Act. If we issue the permit, the applicants anticipated taking sand skink and blue-tailed mole skink incidental to land preparation and construction on 0.5 acres of occupied skinks habitat for the residential development in Section 30, Township 25 South, and Range 27 East, in Osceola County, Florida. The applicants proposes to mitigate for the take resulting from this project by purchasing and protecting 1 acre of skink-occupied habitat at a Service-approved mitigation bank prior to any clearing activities.

Our Preliminary Determination

The Service has made a preliminary determination that the applicants' project, including the mitigation measures, will individually and cumulatively have a minor or negligible effect on the species covered in its HCP. Therefore, we have determined that the renewal of the expired ITP for this project would be “low effect” and qualify for categorical exclusions under the NEPA, as provided by 43 CFR 46.205 and 46.210. A low-effect HCP is one involving: (1) Minor or negligible effects on federally listed, proposed, and candidate species and their habitats; (2) minor or negligible effects on other environmental values or resources; and (3) impacts that, when considered together with the impacts of other past, present, and reasonable foreseeable similarly situated projects, would not result over time in cumulative effects to environmental values or resources that would be considered significant.

Next Step

We will evaluate the HCP and the comments we receive to determine whether the ITP application meets the requirements of section 10(a)(1)(B) of the ESA. We will also conduct an intra-Service consultation on the application to evaluate take of the skinks in accordance with section 7 of the ESA. We will use the results of the consultation, in combination with the above findings, in our analysis of whether or not to issue the ITP. If the requirements are met, we will issue ITP number TE8166B-1 to JKAF Investments, LLC, and Kathryn Kendrick Davidow Trust.

Authority

We provide this notice under section 10(c) of the ESA (16 U.S.C. 1531 et seq.) and NEPA regulations (40 CFR 1506.6).

Roxanna Hinzman,
Field Supervisor, South Florida Ecological Services Office.

[FR Doc. 2019-02191 Filed 2-12-19; 8:45 am]

BILLING CODE 4333-15-P